DEPARTMENT OF THE TREASURY

Office of Thrift Supervision

MainStreet Savings Bank, FSB, Hastings, MI; Notice of Appointment of Receiver

Notice is hereby given that, pursuant to the authority contained in section 5(d)(2) of the Home Owners' Loan Act, the Office of Thrift Supervision has duly appointed the Federal Deposit Insurance Corporation as sole Receiver for MainStreet Savings Bank, Hastings, Michigan, (OTS No. 00966) on July 16, 2010.

Dated: July 23, 2010.
By the Office of Thrift Supervision.
Sandra E. Evans,
Federal Register Liaison.

[FR Doc. 2010-18612 Filed 7-29-10; 8:45 am]

BILLING CODE 6720-01-M